DEPARTMENT OF DEFENSE

Department of the Army

Interim Change to the Military Freight Traffic Unified Rules Publication (MFTURP) No. 1

AGENCY: Department of the Army, DoD.

ACTION: Notice.

SUMMARY: The Military Surface Deployment and Distribution Command (SDDC) is providing notice that it will release an interim change to the MFTURP No. 1 on Monday, June 28, 2010. The interim change updates Section A, Part VI, Paragraph A, Advancing Charges (045). The update provides clearer guidance on when Transportation Service Providers (TSP) may charge for Advancing Charges.

DATES: Effective date: June, 28, 2010.

ADDRESSES: Submit comments to Publication and Rules Manager, Strategic Business Directorate, Business Services, 661 Sheppard Place, Attn: SDDC-OPM, Fort Eustis, VA 23604-1644. Requests for additional information may be sent by e-mail to: chad.t.privett@us.army.mil or george.alie@us.army.mil.

FOR FURTHER INFORMATION CONTACT: Mr. Chad Privett, (757) 878-8161, or Mr. George Alie, (618) 220-5870.

SUPPLEMENTARY INFORMATION: References: Military Freight Traffic Unified Rules Publications (MFTURP) No. 1; SDDC Docketing System (http://www.sddc.army.mil/docketing), Section A, Docket 1017.

Miscellaneous: The MFTURP No. 1, as well as the other SDDC publications, can be accessed via the SDDC Web site at: http://www.sddc.army.mil/Public/Global%20Cargo%20Distribution/Domestic/Publications/.

Larry L. Earick,
Branch Chief, G9, Business Services.

[FR Doc. 2010-15578 Filed 6-25-10; 8:45 am]

BILLING CODE 3710-08-P